Proclamation 10760 of May 17, 2024

National Emergency Medical Services Week, 2024

By the President of the United States of America

A Proclamation

During National Emergency Medical Services (EMS) Week, we honor our Nation's courageous EMS providers, who put it all on the line to deliver urgent, life-saving care to people across our country in times of great need.

Whether paramedics, emergency medical technicians, 911 and 988 dispatchers, or other first responders, EMS providers routinely work long hours away from loved ones to keep other families whole. They risk their own lives and health, staring down storms, floods, or fires and rushing to rescue people in need. For many Americans, they are a beacon of hope in some of life's toughest moments and let us know we are going to be okay. We have a duty to show up for them the way they show up for us.

That is why my Administration is working to get every EMS department in America the equipment and support they deserve. During my first months in office, we passed the American Rescue Plan, investing billions of dollars to support EMS roles. Today, we are working with State, local, Tribal, and territorial governments to keep EMTs on the job and to help them handle trauma and burn out. We are working to get departments the resources they need to provide better training and equipment for EMS providers. To help ease staffing shortages, we are also helping communities recruit and train more firefighters, who often provide emergency medical services as well. We are fighting to ease the burden of student loans. In all, we have cancelled debt for 4.6 million student borrowers, including for nearly 900,000 public service workers by fixing the Public Service Loan Forgiveness Program, which many non-profit or government EMS provider employees could be eligible for.

I have often said that courage lies in every heart, and the expectation is that it will one day be summoned. It is summoned every day for America's EMS providers. They embody the best of our Nation—bravery, honor, and respect, never failing to answer the call to help others. This week, we thank them and the unions that protect so many of our EMS providers and promise to always have their backs.

NOW, THEREFORE, I, JOSEPH R. BIDEN JR., President of the United States of America, by virtue of the authority vested in me by the Constitution and the laws of the United States, do hereby proclaim May 19 through May 25, 2024, as National Emergency Medical Services Week. I call upon public officials, doctors, nurses, paramedics, EMS providers, and all the people of the United States to observe this week with appropriate programs, ceremonies, and activities to honor our brave EMS workers and to pay tribute to the EMS providers who have lost their lives in the line of duty.

IN WITNESS WHEREOF, I have hereunto set my hand this seventeenth day of May, in the year of our Lord two thousand twenty-four, and of the Independence of the United States of America the two hundred and forty-eighth.

[FR Doc. 2024-11387

Filed 5-21-24; 8:45 am]

Billing code 3395-F4-P